DEPARTMENT OF ENERGY

Federal Energy Regulatory Commission

Combined Notice of Filings # 1

February 28, 2008.

Take notice that the Commission received the following electric corporate filings:

Docket Numbers: EC06-129-001.

Applicants: Capital Research and Management Company; AMCAP Fund, Inc.; American Balanced Fund, Inc.; American High-Income Trust; American Mutual Fund, Inc.; Capital Income Builder, Inc.; Capital World Bond Fund, Inc.; Capital World Growth and Income Fund, Inc.; EuroPacific Growth Fund; Fundamental Investors, Inc.; New Perspective Fund, Inc.; New World Fund, Inc.; SMALLCAP World Fund, Inc.; The Bond Fund of America, Inc.; The Income Fund of America, Inc.; The Investment Company of America; The New Economy Fund; Washington Mutual Investors Fund, Inc.; American Funds Insurance Series Endowment; Capital International Global Discovery; Capital International Global Equity; Capital International Funds-European Eq; Capital International Funds-U.S. Equity; The Growth Fund of America, Inc.

Description: Capital Research and Management Company requests an amendment to the Order, (2006 Order), previously issued by FERC in Capital Research and Management Company et al. in their application.

Filed Date: 02/22/2008.

Accession Number: 20080226-0143.

Comment Date: 5 p.m. Eastern Time on Friday, March 14, 2008.

Docket Numbers: EC08-47-000.

Applicants: Genesee Power Station Ltd. Partnership.

Description: Application for authorization for disposition of jurisdictional facilities and request for expedited action re Genesse Power Station LP.

Filed Date: 02/25/2008.

Accession Number: 20080227-0117.

Comment Date: 5 p.m. Eastern Time on Monday, March 17, 2008.

Docket Numbers: EC08-48-000.

Applicants: Grayling Generating Station Limited Partnership.

Description: Application for authorization for disposition of jurisdictional facilities and request for expedited action re Grayling Generating Station LP.

Filed Date: 02/25/2008.

Accession Number: 20080227-0119.

Comment Date: 5 p.m. Eastern Time on Monday, March 17, 2008.

Take notice that the Commission received the following exempt wholesale generator filings:

Docket Numbers: EG08-42-000.

Applicants: Invenergy Nelson LLC.

Description: Invenergy Nelson LLC submits its Notice of Self Certification of Exempt Wholesale Generator Status.

Filed Date: 02/22/2008.

Accession Number: 20080226-0144.

Comment Date: 5 p.m. Eastern Time on Friday, March 14, 2008.

Docket Numbers: EG08-43-000.

Applicants: Turkey Track Wind Energy LLC.

Description: Turkey Track Energy Wind LLC submits its Notice of Self-Certification of Exempt Wholesale Generator Status.

Filed Date: 02/26/2008.

Accession Number: 20080228-0103.

Comment Date: 5 p.m. Eastern Time on Tuesday, March 18, 2008.

Take notice that the Commission received the following electric rate filings:

Docket Numbers: ER00-3614-007; ER06-1351-002.

Applicants: BP Energy Company; BP West Coast Products LLC;

Description: BP Energy Company et al. supplements their January 30th notification of change in status in response to FERC's Staff's inquiry.

Filed Date: 02/22/2008.

Accession Number: 20080227-0069.

Comment Date: 5 p.m. Eastern Time on Friday, March 14, 2008.

Docket Numbers: ER01-1363-009; ER96-25-031.

Applicants: Coral Energy Management, LLC.

Description: Coral Power, LLC et al submits a supplement to its 12/3/07 Notice of Change in Status.

Filed Date: 02/22/2008.

Accession Number: 20080227-0122.

Comment Date: 5 p.m. Eastern Time on Friday, March 14, 2008.

Docket Numbers: ER03-478-017; ER06-200-010; ER07-254-002; ER03-1326-010; ER07-460-001; ER05-534-011; ER05-365-011; ER05-1262-009; ER06-1093-005; ER03-296-013; ER01-3121-012; ER02-418-011; ER03-416-014; ER05-332-011; ER07-287-004; ER07-242-004; ER03-951-013; ER04-94-011; ER02-417-011; ER07-1378-001; ER05-1146-011; ER05-481-011; ER07-240-005; ER07-195-002; ER02-2085-006.

Applicants: PPM Energy; Big Horn Wind Project LLC; Casselman Windpower, LLC; Colorado Green Holdings, LLC; Dillon Wind LLC; Eastern Desert Power LLC; Elk River Windfarm LLC; Flat Rock Windpower LLC; Flat Rock Windpower II LLC; Flying Cloud Power Partners, LLC; Klamath Energy LLC; Klamath Generation LLC; Klondike Wind Power LLC; Klondike Wind Power II LLC; Klondike Wind Power III LLC; MinnDakota Wind LLC; Moraine Wind LLC; Mountain View Power Partners III, LLC; Phoenix Wind Power LLC; Providence Heights Wind, LLC; Shiloh I Wind Project LLC; Trimont Wind I LLC; Twin Buttes Wind LLC; Locust Ridge Wind Farm, LLC; Northern Iowa Windpower LLC.

Description: Iberdrola Companies submits corrected tariff sheets, Original Sheet 1 to FERC Electric Tariff, Second Revised Volume 1.

Filed Date: 02/22/2008.

Accession Number: 20080227-0065.

Comment Date: 5 p.m. Eastern Time on Friday, March 14, 2008.

Docket Numbers: ER05-1202-004; ER05-1262-013; ER06-1093-009; ER06-1122-002.

Applicants: Blue Canyon Windpower II LLC; Flat Rock Windpower LLC; Flat Rock Windpower II LLC; High Trail Wind Farm, LLC.

Description: Blue Canyon Windpower II, LLC et al. submits a Notice of Non-Material Change in Status.

Filed Date: 02/26/2008.

Accession Number: 20080228-0101.

Comment Date: 5 p.m. Eastern Time on Tuesday, March 18, 2008.

Docket Numbers: ER06-864-009; ER06-1543-006; ER02-1785-014.

Applicants: Bear Energy LP; Brush Cogeneration Partners; Thermo Cogeneration Partnership LP.

Description: Bear Energy LP et al. submits a Notification of non-material Change in Status.

Filed Date: 02/25/2008.

Accession Number: 20080227-0111.

Comment Date: 5 p.m. Eastern Time on Monday, March 17, 2008.

Docket Numbers: ER08-67-001.

Applicants: Ameren Services Company.

Description: Union Electric Company submits a report concerning refunds provided to the City of Farmington, Missouri.

Filed Date: 01/28/2008.

Accession Number: 20080130-0077.

Comment Date: 5 p.m. Eastern Time on Monday, March 10, 2008.

Docket Numbers: ER08-234-002.

Applicants: EWO Marketing, LP.

Description: EWO Marketing LP submits a refund report related to the refund ordered by FERC.

Filed Date: 02/12/2008.

Accession Number: 20080213-0086.

Comment Date: 5 p.m. Eastern Time on Tuesday, March 4, 2008.

Docket Numbers: ER08-444-002.

Applicants: NSTAR Electric Company.

Description: NSTAR Electric Co. submits an amendment to the Notice of Succession and Revised Market-Based Rate Tariff pursuant to Order 697.

Filed Date: 02/25/2008.

Accession Number: 20080227-0110.

Comment Date: 5 p.m. Eastern Time on Monday, March 17, 2008.

Docket Numbers: ER08-491-001.

Applicants: The Empire District Electric Company.

Description: The Empire District Electric Company submits revised notices of cancellation of Service Agreement 1 et al. under FERC Electric Tariff, Original Volume 2 in accordance with Order 614.

Filed Date: 02/25/2008.

Accession Number: 20080227-0109.

Comment Date: 5 p.m. Eastern Time on Monday, March 17, 2008.

Docket Numbers: ER08-514-001.

Applicants: Arizona Public Service Company.

Description: Uncontested Motion Extension of Time of Arizona Public Service Company.

Filed Date: 02/19/2008.

Accession Number: 20080219-5039.

Comment Date: 5 p.m. Eastern Time on Monday, March 24, 2008.

Docket Numbers: ER08-546-000.

Applicants: Southern California Edison Company.

Description: Southern California Edison Company submits Revised Rate Schedule Sheets 207 et al. reflecting a revision to the rates charged for transmission service etc.

Filed Date: 02/08/2008.

Accession Number: 20080225-0293.

Comment Date: 5 p.m. Eastern Time on Monday, March 10, 2008.

Docket Numbers: ER08-597-000.

Applicants: Commonwealth Edison Company.

Description: Commonwealth Edison Co. submits an cancellation of the executed Interconnection Agreement 729.

Filed Date: 02/26/2008.

Accession Number: 20080227-0107.

Comment Date: 5 p.m. Eastern Time on Tuesday, March 18, 2008.

Docket Numbers: ER08-598-000.

Applicants: Equilon Enterprises, LLC.

Description: Equilon Enterprises, LLC submits a notice of cancellation of its market-based rate tariff originally accepted by FERC on May 22, 2006.

Filed Date: 02/26/2008.

Accession Number: 20080228-0102.

Comment Date: 5 p.m. Eastern Time on Tuesday, March 18, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-4310 Filed 3-5-08; 8:45 am]

BILLING CODE 6717-01-P